DEPARTMENT OF THE INTERIOR

U.S. Geological Survey

National Cooperative Geologic Mapping Program (NCGMP) Advisory Committee

AGENCY: U.S. Geological Survey.

ACTION: Notice of meeting.

SUMMARY: Pursuant to Public Law 106-148, the NCGMP Advisory Committee will meet in Room BA102A of the John Wesley Powell Building of the U.S. Geological Survey, 12201 Sunrise Valley Drive, Reston, Virginia. The Advisory Committee, composed of scientists from Federal Agencies, State Agencies, academic institutions, and private companies, will advise the Director of the U.S. Geological Survey on planning and implementation of the geologic mapping program. Topics to be reviewed and discussed by the Advisory Committee include the:

• Progress of the NCGMP towards fulfilling the purposes of the National Geological Mapping act of 1992

• Field oriented geoscience experience for college and university students.

• Paucity of Black, Hispanic, and Native American college and university students with geoscience majors.

DATES: March 6-7, 2008 commencing at 8:30 a.m. on March 6, and adjourning by 5 p.m. on March 7.

FOR FURTHER INFORMATION CONTACT: Laurel M. Bybell, U.S. Geological Survey, 908 National Center, Reston, Virginia 20192 (703) 648-5281.

SUPPLEMENTARY INFORMATION: Meetings of the National Cooperative Geological Mapping Program Advisory Committee are open to the Public.

Dated: February 7, 2008.
Peter T. Lyttle,
Acting Associate Director for Geology, U.S. Geological Survey.

[FR Doc. 08-759 Filed 2-29-08; 8:45 am]

BILLING CODE 4311-AM-M